DEPARTMENT OF LABOR

Employment and Training Administration

Wagner-Peyser Act Final Planning Allotments for Program Year (PY) 2000

AGENCY: Employment and Training Administration, Labor.

ACTION: Notice.

SUMMARY: This notice announces the final planning allotments for Program Year (PY) 2000 (July 1, 2000 through June 30, 2001) for basic labor exchange activities provided under the Wagner-Peyser Act.

FOR FURTHER INFORMATION CONTACT: Timothy S. Felegie, Office of Workforce Security, 200 Constitution Avenue NW., Room S-4231, Washington, DC 20210. Telephone: (202) 219-5653 (this is not a toll-free number).

SUPPLEMENTARY INFORMATION: In accordance with Section 6(b)(5) of the Wagner-Peyser Act, 29 U.S.C. 49e(b)(5), the Employment and Training Administration is publishing final planning allotments for each State for Program Year (PY) 2000 (July 1, 2000, through June 30, 2001). Preliminary planning estimates were provided to each State on February 17, 2000. Funds are distributed in accordance with formula criteria established in Section 6(a) and (b) of the Wagner-Peyser Act. Civilian labor force (CLF) and unemployment data for Calendar Year 1999 are used in making the formula calculations.

The total amount of funds currently available for distribution is $761,735,000. The Secretary of Labor shall set aside up to 3 percent of the total available funds to assure that each State will have sufficient resources to maintain statewide employment services, as required by Section 6(b)(4) of the Act, 29 U.S.C. 49e(b)(4). In accordance with this provision, $22,312,050 is set aside for administrative formula allocation. These funds are included in the total planning allotment. The funds that are set aside are distributed in two steps to States which have lost in relative share of resources from the prior year. In Step 1, States which have a CLF below one million and are below the median CLF density are maintained at 100 percent of their relative share of prior year resources. The remainder is distributed in Step 2 to all other States losing in relative share from the prior year, but which do not meet the size and density criteria for Step 1.

Postage costs incurred by States during the conduct of employment service (ES) activities are billed directly to the Department of Labor by the U.S. Postal Service. The total final planning allotment reflects $18,000,000, or approximately 2.36 percent of the total amount available, withheld from distribution to finance postage costs associated with the conduct of ES business. Pursuant to Section 7(b) of the Act, 29 U.S.C. 49f(b), ten percent of the total sums allotted to each State shall be reserved for use by the Governor to provide performance incentives for public ES offices and programs; service for groups with special needs; and for the extra costs of exemplary models for delivering job services.

Differences between preliminary planning estimates and final planning allotments are caused by the use of Calendar Year 1999 data as opposed to the earlier data (12 months ending September 1999) used for preliminary planning estimates.

Signed at Washington, DC, this 16th day of May, 2000.
Raymond L. Bramucci,
Assistant Secretary.

BILLING CODE 4510-30-M

Appendix

[FR Doc. 00-13469 Filed 5-30-00; 8:45 am]

BILLING CODE 4510-30-C